DEPARTMENT OF COMMERCE

National Oceanic and Atmospheric Administration

RIN 0648-XG053

Notice of Intent To Prepare an Environmental Impact Statement; Extension of Public Comment Period

AGENCY: National Marine Fisheries Service (NMFS), National Oceanic and Atmospheric Administration (NOAA), Commerce.

ACTION: Notice of intent; extension of public comment period.

SUMMARY: NMFS is extending the public comment period for the Notice of Intent (NOI) to Prepare an Environmental Impact Statement (EIS) to inform its decision of whether to determine that a resource management plan (RMP) jointly developed by the Washington Department of Fish and Wildlife (WDFW) and the Puget Sound Tribes (Tribes), collectively the co-managers, meets requirements under Limit 6 of the Endangered Species Act (ESA) 4(d) rule for the ESA-listed Puget Sound Chinook salmon Evolutionarily Significant Unit (ESU), which is listed as threatened under the ESA. The NOI was published in the Federal Register on Thursday, May 3, 2018. The public comment period on the NOI was originally scheduled to end June 4, 2018. NMFS is extending that comment period by 14 days and will now consider comments received through June 18, 2018.

DATES: The deadline for receipt of comments on the NOI published on May 3, 2018 (83 FR 19528), is extended to June 18, 2018. Written or electronic scoping comments must be received at the appropriate address or email mailbox (see ADDRESSES) on or before June 18, 2018.

ADDRESSES: Written comments should be sent to Barry A. Thom, Regional Administrator, West Coast Region, NMFS, Attn: Emi Kondo, 1201 NE Lloyd Boulevard, Suite 1100, Portland, OR 97232. Comments may also be sent by email to ps2018rmp.wcr@noaa.gov.

FOR FURTHER INFORMATION CONTACT: Emi Kondo, NMFS West Coast Region, telephone: 503-736-4739, email: emi.kondo@noaa.gov.

SUPPLEMENTARY INFORMATION: On Thursday, May 3, 2018, NMFS published an NOI to prepare an EIS to inform its decision of whether to determine that an RMP jointly developed by the co-managers, meets requirements under Limit 6 of the ESA 4(d) rule for the Puget Sound Chinook Salmon ESU, which is listed as threatened under the ESA. The purpose of the RMP is to manage commercial, recreational, ceremonial, and subsistence salmon fisheries potentially affecting the Puget Sound Chinook Salmon ESU within the marine and freshwater areas of Puget Sound, from the entrance of the Strait of Juan de Fuca inward, including fisheries under the jurisdiction of the Pacific Salmon Commission's Fraser River Panel. In order for NMFS to make a positive determination under Limit 6 on the RMP, NMFS must conclude that the RMP's management framework is consistent with the criteria under Limit 6. Limit 6 applies to RMPs developed jointly by the states of Washington, Oregon and/or Idaho and the tribes within the continuing jurisdiction of United States v. Washington or United States v. Oregon.

NMFS provided notice to advise other agencies and the public of our plan to analyze effects related to NMFS 4(d) determination and co-manager implementation of the RMP and to obtain suggestions and information that may be useful to the scope of issues and alternatives to include in the EIS (83 FR 19528, May 3, 2018), and requested comments be received by June 4, 2018. NMFS has decided to extend the public comment period on the NOI by 14 days to Monday, June 18, 2018, to allow opportunity for the public to review additional information on this project, available on the NMFS West Coast Region website: http://www.westcoast.fisheries.noaa.gov/fisheries/salmon_steelhead/puget_sound_fisheries.html.

Authority: 42 U.S.C. 4321 et seq.; 40 CFR 1500-1508; and Companion Manual for NOAA Administrative Order 216-6A, 82 FR 4306.

Dated: May 30, 2018.
Angela Somma,
Chief, Endangered Species Division, Office of Protected Resources, National Marine Fisheries Service.

[FR Doc. 2018-11971 Filed 6-4-18; 8:45 am]

BILLING CODE 3510-22-P